ENVIRONMENTAL PROTECTION AGENCY

[EPA-HQ-OPP-2006-0693; FRL-8102-4]

FIFRA Scientific Advisory Panel; Notice of Change of Public Meeting Dates

AGENCY: Environmental Protection Agency (EPA).

ACTION: Notice.

SUMMARY: The Agency is issuing this notice to reschedule a meeting of the Federal Insecticide, Fungicide, and Rodenticide Act (FIFRA) Scientific Advisory Panel. The meeting, originally scheduled for November 14-16, 2006, was announced in the Federal Register of September 1, 2006 (71 FR 52068; FRL-8090-3). This meeting will now be held November 15-17, 2006.

FOR FURTHER INFORMATION CONTACT: Joseph E. Bailey, Designated Federal Official, Office of Science Coordination and Policy (7201M), Environmental Protection Agency, 1200 Pennsylvania Ave., NW., Washington, DC 20460; telephone number: (202) 564-2045; fax number: (202) 564-8382; e-mail address: bailey.joseph@epa.gov.

SUPPLEMENTARY INFORMATION: The FIFRA SAP meeting originally scheduled for November 14-16, 2006, to consider and review issues related to Studies Evaluating the Impact of Surface Coatings on the Level of Dislodgeable Arsenic, Chromium and Copper from Chromated Copper Arsenate (CCA)-treated Wood now will be held November 15-17, 2006 from 8:30 am to approximately 5:00 pm, eastern time. This meeting was originally announced in the Federal Register of September 1, 2006 (71 FR 52068; FRL-8090-3). All other information provided in the September 1, 2006 Notice remains unchanged. For further information, please notify the Designated Federal Official (DFO) listed under FOR FURTHER INFORMATION CONTACT.

List of Subjects

Environmental protection, Pesticides and pests.

Dated: October 25, 2006.
Clifford J. Gabriel,
Director, Office of Science Coordination and Policy.

[FR Doc. E6-18395 Filed 10-31-06; 8:45 am]

BILLING CODE 6560-50-S